INTERNATIONAL TRADE COMMISSION

[USITC SE-16-044]

Government in the Sunshine Act Meeting Notice

AGENCY HOLDING THE MEETING: United States International Trade Commission.

TIME AND DATE: January 6, 2017 at 11:00 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-566 and 731-TA-1342 (Preliminary) (Softwood Lumber Products from Canada). The Commission is currently scheduled to complete and file its determinations on January 9, 2017; views of the Commission are currently scheduled to be completed and filed on January 17, 2017.

5. Vote in Inv. Nos. 701-TA-560 and 731-TA-1319, 1326, and 1328 (Final) (Carbon and Alloy Steel Cut-to-Length Plate from Brazil, South Africa, and Turkey). The Commission is currently scheduled to complete and file its determinations and views of the Commission by January 18, 2017.

6. Outstanding action jackets: None

In accordance with Commission policy, subject matter listed above, not disposed of at the scheduled meeting, may be carried over to the agenda of the following meeting.

By order of the Commission.
Issued: December 20, 2016.
William R. Bishop,
Supervisory Hearings and Information Officer.

[FR Doc. 2016-31126 Filed 12-21-16; 11:15 am]

BILLING CODE 7020-02-P